DEPARTMENT OF TRANSPORTATION

Federal Aviation Administration

Office of Commercial Space Transportation; Notice of Intent To Prepare an Environmental Impact Statement (EIS), Open a Public Scoping Period, and To Hold a Public Scoping Meeting in Camden County, Georgia

AGENCY: The Federal Aviation Administration (FAA) is the lead Federal agency. The National Aeronautics and Space Administration and National Park Service are cooperating agencies for this EIS.

ACTION: Notice of Intent to prepare an EIS, open a public scoping period, and hold a public scoping meeting.

SUMMARY: This Notice provides information to Federal, State, and local agencies; Native American tribes; and other interested persons regarding the FAA's intent to prepare an EIS to evaluate the potential environmental impacts of issuing a Launch Site Operator License to the Camden County Board of Commissioners for a proposed commercial space launch site (“Spaceport Camden”). The Camden County Board of Commissioners proposes to construct and operate Spaceport Camden in an unincorporated area of Woodbine, in Camden County, Georgia. The FAA will prepare the EIS in accordance with the National Environmental Policy Act of 1969 (NEPA; 42 United States Code 4321 et seq.), the Council on Environmental Quality Regulations for Implementing the Procedural Provisions of NEPA (40 Code of Federal Regulations parts 1500-1508), and FAA Order 1050.1F, Environmental Impacts: Policies and Procedures, as part of its licensing process. Concurrent with the NEPA process, the FAA is initiating National Historic Preservation Act Section 106 Consultation to determine the potential effects of the Proposed Action on historic properties. The FAA is also consulting with the U.S. Fish and Wildlife Service (USFWS) under Section 7 of the Endangered Species Act regarding potential impacts on federally-listed threatened and endangered species. Pursuant to the U.S. Department of Transportation Act of 1966, this EIS will comply with the requirements of Section 4(f) of the Act. Additional information is available online at: http://www.faa.gov/about/office_org/headquarters_offices/ast/environmental/nepa_docs/review/documents_progress/camden_spaceport/.

DATES: The FAA invites interested agencies, organizations, Native American tribes, and members of the public to submit comments or suggestions to assist in identifying significant environmental issues and in determining the appropriate scope of the EIS. The public scoping period starts with the publication of this Notice in the Federal Register. To ensure sufficient time to consider issues identified during the public scoping period, comments should be submitted to Ms. Stacey M. Zee, FAA Environmental Specialist, by one of the methods listed below no later than January 4, 2016. All comments will receive the same attention and consideration in the preparation of the EIS.

ADDRESSES: Comments, statements, or questions concerning scoping issues or the EIS process should be mailed to: Ms. Stacey M. Zee, FAA Environmental Specialist, Spaceport Camden County EIS c/o Leidos, 20201 Century Boulevard, Suite 105, Germantown, MD 20874. Comments can also be sent by email to FAACamdenSpaceportEIS@Leidos.com.

SUPPLEMENTARY INFORMATION:

Background

The FAA is preparing an EIS for the Camden County Board of Commissioners to construct and operate Spaceport Camden, a proposed commercial space launch site in an unincorporated area of Woodbine, in Camden County, Georgia. The County will be required to obtain a Launch Site Operator License from the FAA for the operation of the launch site. The EIS will consider the potential environmental impacts of the Proposed Action and the No Action Alternative; however, based on comments received during the scoping period, the FAA may analyze additional alternatives. The successful completion of the environmental review process does not guarantee that the FAA Office of Commercial Space Transportation would issue a Launch Site Operator License to the Camden County Board of Commissioners. The project must also meet all FAA requirements of a Launch Site Operator License. Individual launch operators proposing to launch from the site would be required to obtain a launch license.

Proposed Action

The Proposed Action is for the FAA to issue a Launch Site Operator License to the Camden County Board of Commissioners that would allow the Camden County Board of Commissioners to offer the commercial space launch site, Spaceport Camden, to commercial launch providers to conduct launch operations of liquid-fueled, medium-lift-class, orbital and suborbital vertical launch vehicles. Under the Proposed Action, the Camden County Board of Commissioners would construct and operate Spaceport Camden, which would include a vertical launch site, a landing zone, a control center complex, and a facility that includes visitor-viewing areas. Spaceport Camden would accommodate up to 12 vertical launches and up to 12 associated launch vehicle first-stage landings per year. In addition, there would be up to 12 static fire engine tests and up to 12 wet dress rehearsals per year.

The Camden County Board of Commissioners has signed an option to purchase approximately 4,000 acres of an approximately 12,000-acre industrial site on which to construct the spaceport, and is considering purchasing approximately another 7,800 acres of adjoining property in the same industrial complex. The proposed Spaceport Camden property is located in an unincorporated area of Woodbine, in Camden County, approximately 11.5 miles due east of the town of Woodbine, Georgia, in the extreme southeastern part of the state. Access to the site is at the eastern termination of Union Carbide Road, an extension of Harriett's Bluff Road (Exit 7 from I-95). The site is on the coast, surrounded by salt marshes to the east and south, and the Satilla River to the north. The property comprises uplands, salt marshes, and fresh water wetlands. Approximately 100 non-contiguous upland acres would be used for the launch pad, landing site, control center, and supporting facilities. Each of these facilities would be fenced to provide security and access control, as would the approximately 400 acres of uplands on which these facilities would be located. The remainder of the site, much of which is marshland, would be used as buffer.

The vertical launch facility would be approximately 23 acres in size and would include a launch pad and stand with its associated flame duct; propellant storage and handling areas; vehicle and payload integration facility; storage tanks; lightning protection systems; deluge water systems for local sound and vibration suppression; and other launch-related facilities and systems. The landing area would be approximately 11 acres in size and include a proposed 400 foot by 400 foot concrete pad located roughly in the center of the area, with fuel and oxidizer “off load” tanks, and related infrastructure. The control center complex would be located on the property at a safe distance from the launch and landing areas. The control center complex would house the site administration offices, a control room with related equipment, payload processing/check-out area, and a first-responder facility. This complex would be situated in an area of approximately 2.75 acres, and would consist of two buildings with a parking lot between them. There would be a similar facility constructed near the main entrance of the property that would mirror the control center complex in size, design and facilities, but would also include provisions for visitors and viewing launches.

Operations would consist of up to 12 launches and up to 12 associated launch vehicle first-stage landings per year. In addition, other operations could occur, including up to 12 static fire engine tests and up to 12 wet dress rehearsals per year. All vehicles would launch to the east over the Atlantic Ocean. Under the Proposed Action, the first stage of the launch vehicle could return to and land at Spaceport Camden, or would land in the Atlantic Ocean, either in the water or on a barge.

The potential environmental impacts of all proposed construction and operational activities, including those from launching orbital and suborbital vertical launch vehicles, will be analyzed in the EIS. The EIS will evaluate the potential environmental impacts associated with air quality; biological resources (including fish, wildlife, and plants); climate; coastal resources; Department of Transportation Act, Section 4(f); farmlands; hazardous materials, solid waste, and pollution prevention; historical, architectural, archeological and cultural resources; land use; natural resources and energy supply; noise and noise-compatible land use; socioeconomics, environmental justice, and children's health and safety risks; visual effects; water resources (including wetlands, floodplains, surface waters, groundwater, and wild and scenic rivers). This analysis will include an evaluation of potential direct and indirect impacts, and will account for cumulative impacts from other relevant activities in the area of Camden County, Georgia.

Alternatives

The alternatives under consideration include the Proposed Action and the No Action Alternative; however, based on comments received during the scoping period, the FAA may analyze additional alternatives. Under the No Action Alternative, the FAA would not issue a Launch Site Operator License to the Camden County Board of Commissioners.

Scoping Meeting

A public scoping meeting will be held to solicit input from the public on potential issues that may need to be evaluated in the EIS. The scoping meeting will be held on Monday, December 7, 2015, from 5 p.m. to 8 p.m., at the Camden County Public Services Authority Recreation Center Community Room, 1050 Wildcat Drive, Kingsland, Georgia 31548. The meeting format will include an open-house workshop from 5:00 p.m. to 6:00 p.m. The FAA will provide an overview of the environmental process from 6:00 p.m. to 6:15 p.m., followed by a public comment period from 6:15 p.m. to 8:00 p.m. During the public comment period, members of the public may provide up to a 2-minute statement. The FAA will transcribe oral comments. Members of the public also may submit written or emailed comments. All comments received during the scoping period, whether provided in writing or verbally, will be given equal weight and will be taken into consideration in the preparation of the Draft EIS.

More information on the proposed project and the NEPA process is available on the project Web site at: http://www.faa.gov/about/office_org/headquarters_offices/ast/environmental/nepa_docs/review/documents_progress/camden_spaceport/.

Issued in Washington, DC, on: November 2, 2015.
Daniel Murray,
Manager, Space Transportation Development Division.

[FR Doc. 2015-28336 Filed 11-5-15; 8:45 am]

BILLING CODE 4910-13-P